DEPARTMENT OF STATE

[Public Notice: 9457]

Notice of Request for Expressions of Interest by Environmental Experts in Assisting the CAFTA-DR Secretariat for Environmental Matters With the Preparation of Factual Records

AGENCY: Department of State.

ACTION: Request for expressions of interest by environmental experts to assist the Dominican Republic-Central America-United States Free Trade Agreement (CAFTA-DR) Secretariat for Environmental Matters (Secretariat) with the preparation of factual records.

SUMMARY: The U.S. Department of State (State Department) and the Office of the U.S. Trade Representative (USTR) are compiling recommendations for additional candidates to be included on the roster of environmental experts from which the CAFTA-DR Secretariat selects individuals to assist in the preparation of factual records. The State Department and USTR invite environmental experts, including representatives from non-governmental organizations, educational institutions, private sector enterprises, and other interested persons, to submit their expression of interest in being included on the roster of experts. We encourage submitters to review the following prior to expressing interest: (1) Chapter 17: Environment of the CAFTA-DR, in particular Articles 17.7 and 17.8; (2) paragraph 2(d) of the Understanding Regarding the Establishment of a Secretariat for Environmental Matters Under CAFTA-DR; (3) paragraphs 3 and 4 of Article 5 of the Agreement Establishing a Secretariat for Environmental Matters Under CAFTA-DR; and (4) Decision No. 10 of the CAFTA-DR Environmental Affairs Council (Council). Submitters also are encouraged to review the definition of “environmental law” in Article 17.13 of Chapter 17 to get a sense of the range of environmental matters that could be at issue in a factual record. These documents are available at: http://www.state.gov/e/oes/eqt/trade/caftadr/.

DATES: To be assured of timely consideration, expressions of interest are requested no later than March 31, 2016.

ADDRESSES: Expressions of interest should be emailed or faxed to Laura Buffo, Office of Environment and Natural Resources, Office of the United States Trade Representative (Laura_Buffo@ustr.eop.gov, Fax: 202-395-9510), and Neal Morris, Office of Environmental Quality and Transboundary Issues, Bureau of Oceans and International Environmental and Scientific Affairs, U.S. Department of State (MorrisND@state.gov, Fax: 202-647-5947), with the subject line “CAFTA-DR Roster of Environmental Experts to Assist in Development of Factual Records.” If you have access to the Internet, you can view and comment on this notice by going to: http://www.regulations.gov/#!home and searching on docket number: DOS-2016-0006.

FOR FURTHER INFORMATION CONTACT: Neal Morris—MorrisND@state.gov, (202) 647-9312; or Laura Buffo—Laura_Buffo@ustr.eop.gov, (202) 395-9424.

SUPPLEMENTARY INFORMATION: Pursuant to Article 17.7 and 17.8 of CAFTA-DR, any person of a Party may file a submission with the CAFTA-DR Secretariat asserting that a Party is failing to effectively enforce its environmental laws. Where the Secretariat determines that a submission meets the criteria set out in paragraph 2 and 4 of Article 17.7, and where the Secretariat considers that the submission, in light of any response provided by the Party, warrants developing a factual record, the Secretariat shall so inform the Council and provide its reasons. The Secretariat shall prepare a factual record if the Council, by vote of any Party, instructs it to do so. We recommend that submitters review completed factual records by visiting the CAFTA-DR Secretariat Web site at www.saa-sem.org.

Pursuant to paragraph 2(d) of the Understanding Regarding the Establishment of a Secretariat for Environmental Matters Under CAFTA-DR (the Understanding), the Council shall establish a roster of environmental experts, comprising persons with a demonstrated record of good judgment, objectivity, and environmental expertise, including regional expertise, from which the Secretariat shall select, as appropriate, individuals to assist the Secretariat with the preparation of factual records pursuant to Article 17.8 of the CAFTA-DR.

In accordance with paragraph 2(d) of the Understanding and paragraphs 3 and 4 of Article 5 of the Agreement Establishing a Secretariat for Environmental Matters Under CAFTA-DR, on July 3, 2012, the Council set forth procedures for the Secretariat to follow regarding the engagement of such experts. See Decision No. 10, “Engagement of Environmental Experts to Assist the Secretariat for Environmental Matters with the Preparation of Factual Records.” Pursuant to Decision No. 10, when the General Coordinator deems it necessary, such as when the existing roster does not contain any individuals with the relevant expertise that is necessary to assist the SEM in the preparation of a particular factual record, the General Coordinator shall seek input from the Council Members on additional candidates for the roster. The Council shall decide, by consensus, to accept the revisions to the roster as proposed or with modifications.

Decision No. 10 provides that individuals selected for inclusion on the roster shall:

• Have demonstrated a record of good judgment, objectivity and environmental expertise;

• Carry out all duties fairly, thoroughly and diligently;

• Demonstrate national or regional expertise where possible;

• Avoid impropriety or the appearance of impropriety and shall observe high standards of conduct so that the integrity or impartiality of any work performed by the expert at the request of the SEM shall not be called into question;

• Not seek or receive instructions from any government or any other authority external to the SEM or Council. Accordingly, experts shall not have ex parte contacts with any of the Parties without the prior explicit consent of the Secretariat or Council;

• Safeguard from public disclosure any information received in their capacity as an environmental expert, where the information is designated by its source as confidential or proprietary;

• Ensure that his or her work complies with all applicable laws and regulations; and

• Promptly disclose any interest, relationship or matter that is likely to affect the expert's independence or impartiality or that might reasonably create an appearance of impropriety or an apprehension of bias in his work.

The State Department and USTR are requesting expressions of interest from experts who wish to be included on the roster. To do so, please submit the following information:

1. Full Name;

2. Contact information (should include a business address, telephone number, and email address);

3. Citizenship(s);

4. A resume' or curriculum vitae;

5. A letter of reference;

6. Three individuals, in addition to the author of the letter of reference, who are willing to serve as a reference and provide information regarding the expert's professional experience (should include name, contact information, and relationship to expert);

7. A summary of any current and past employment by, consulting experience, or other work for any of the Governments that are a Party to the CAFTA-DR;

8. Proof of Spanish and English language proficiency, written and spoken.

For additional information, please visit: http://www.state.gov/e/oes/eqt/trade/caftadr/.

Disclaimer: This Public Notice is a request for expressions of interest, and is not a request for applications. No granting of money is directly associated with this request. The State Department and USTR will select which environmental experts will be recommended by the United States for inclusion on the roster.

Dated: February 24, 2016.
Deborah Klepp,
Director, Office of Environmental Quality and Transboundary Issues, Department of State.

[FR Doc. 2016-04519 Filed 2-29-16; 8:45 am]

BILLING CODE 4710-09-P